COMMISSION ON CIVIL RIGHTS

Sunshine Act Notice

AGENCY: United States Commission on Civil Rights.

ACTION: Notice of meeting.

DATE AND TIME: Friday, May 28, 2010; 11:30 a.m. EDT.

PLACE: Via Teleconference, Public Dial In: 1-800-597-7623, Conference ID # 76198308.

Meeting Agenda

This meeting is open to the public, except where noted otherwise.

I. Approval of Agenda

II. State Advisory Committee Issues

• Colorado SAC

• Oregon SAC

• Consideration of Additional Nominee to the New Jersey SAC

III. Program Planning

• Approval of Briefing Report on Health Care Disparities

• Approval of Findings & Recommendations on Educational Effectiveness of Historically Black Colleges & Universities Briefing Report

• Approval of 2011 Business Meeting Calendar

• Update on Status of NBPP Enforcement Report—Some of the discussion of this agenda item may be held in closed session.

• Update on Status of Title IX Project—Some of the discussion of this agenda item may be held in closed session.

• Discussion of Briefing Concept Paper on Attack against Asian-American Students at South Philadelphia High School

IV. Adjourn

FOR FURTHER INFORMATION CONTACT: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: May 18, 2010.
David Blackwood,
General Counsel.

[FR Doc. 2010-12309 Filed 5-18-10; 4:15 pm]

BILLING CODE 6335-01-P